DEPARTMENT OF TRANSPORTATION

National Highway Traffic Safety Administration

[Docket Number NHTSA-2017-0067; Notice 1]

Reports, Forms, and Record Keeping Requirements

AGENCY: National Highway Traffic Safety Administration (NHTSA), Department of Transportation (DOT).

ACTION: Request for public comment on proposed collection of information.

SUMMARY: Before a Federal agency can collect certain information from the public, it must receive approval from the Office of Management and Budget (OMB). Under procedures established by the Paperwork Reduction Act of 1995, before seeking OMB approval, Federal agencies must solicit public comment on proposed collections of information, including extensions and reinstatement of previously approved collections.

This document describes one collection of information for which NHTSA intends to seek extension of OMB approval.

DATES: Comments must be received on or before October 24, 2017.

ADDRESSES: You may submit comments identified by DOT Docket No. NHTSA-2017-0067 by any of the following methods:

• Federal eRulemaking Portal: Go to https://www.regulations.gov. Follow the online instructions for submitting comments.

• Mail: Docket Management Facility: U.S. Department of Transportation, 1200 New Jersey Avenue SE., West Building Ground Floor, Room W12-140, Washington, DC 20590-0001.

• Hand Delivery or Courier: West Building Ground Floor, Room W12-140, 1200 New Jersey Avenue SE., between 9 a.m. and 5 p.m. ET, Monday through Friday, except Federal holidays. Telephone: 1-800-647-5527.

• Fax: 202-493-2251.

Instructions: All submissions must include the agency name and docket number for this proposed collection of information. Note that all comments received will be posted without change to https://www.regulations.gov, including any personal information provided. Please see the Privacy Act heading below.

Privacy Act: Anyone is able to search the electronic form of all comments received into any of our dockets by the name of the individual submitting the comment (or signing the comment, if submitted on behalf of an association, business, labor union, etc.). You may review DOT's complete Privacy Act Statement in the Federal Register published on April 11, 2000 (65 FR 19477-78).

Docket: For access to the docket to read background documents or comments received, go to https://www.regulations.gov or the street address listed above. Follow the online instructions for accessing the dockets.

FOR FURTHER INFORMATION CONTACT: George Stevens, NHTSA 1200 New Jersey Avenue SE., Room W43-490, Washington, DC 20590. Mr. Steven's telephone number is (202) 366-5308. Please identify the relevant collection of information by referring to its OMB Control Number.

SUPPLEMENTARY INFORMATION: Under the Paperwork Reduction Act of 1995, before an agency submits a proposed collection of information to OMB for approval, it must first publish a document in the Federal Register providing a 60-day comment period and otherwise consult with members of the public and affected agencies concerning each proposed collection of information. The OMB has promulgated regulations describing what must be included in such a document. Under OMB's regulation at 5 CFR 1320.8(d), an agency must ask for public comment on the following:

(i) Whether the proposed collection of information is necessary for the proper performance of the functions of the agency, including whether the information will have practical utility;

(ii) the accuracy of the agency's estimate of the burden of the proposed collection of information, including the validity of the methodology and assumptions used;

(iii) how to enhance the quality, utility, and clarity of the information to be collected;

(iv) how to minimize the burden of the collection of information on those who are to respond, including the use of appropriate automated, electronic, mechanical, or other technological collection techniques or other forms of information technology, e.g. permitting electronic submission of responses.

In compliance with these requirements, NHTSA asks for public comments on the following proposed collections of information:

Type of Request: Extension of clearance.

OMB Control Number: 2127-0045.

Form Number: This collection of information uses no form.

Title: 49 CFR 556, Petitions for Inconsequentiality.

Affected Public: Businesses or other for profit entities.

Abstract: If a motor vehicle or item of replacement motor vehicle equipment is determined to contain a defect related to motor vehicle safety or not to comply with an applicable Federal motor vehicle safety standard (FMVSS), the manufacturer is required under 49 U.S.C. 30118 to furnish NHTSA and owners, purchasers, and dealers of the motor vehicle or motor vehicle equipment with notification of the defect or noncompliance. The manufacturer must also remedy the defect or noncompliance without charge under 49 U.S.C. 30120.

A manufacturer may be exempted from these requirements under 49 U.S.C. 30118(d) if the agency decides, upon application of the manufacturer, that the defect or noncompliance is inconsequential as it relates to motor vehicle safety. That section provides that the agency may only take such action after publishing notice in the Federal Register and providing an opportunity for any interested person to present information, views, and arguments.

Regulations implementing this provision are found in 49 CFR part 556 Exemption for Inconsequential Defect or Noncompliance. The regulations provide that each petition submitted under part 556 must:

(1) Be written in the English language;

(2) Be submitted in three copies to NHTSA;

(3) State the full name and address of the applicant, the nature of its organization (e.g., individual, partnership, or corporation) and the name of the State or county under the laws of which it is organized;

(4) Describe the motor vehicle or item of replacement equipment, including the number involved and the period of production, and the defect or noncompliance concerning which an exemption is sought, and

(5) Set forth all data, views, and arguments of the petitioner supporting the petition. See 49 CFR 556.4(b).

The regulations also provide that the petition must be accompanied by three copies of the report of the defect or noncompliance that the manufacturer has compiled for submission to NHTSA under 49 CFR part 573 Defect and Noncompliance Responsibility and Reports, and be submitted no later than 30 days after the manufacturer determines the existence of the defect or noncompliance or is notified that NHTSA has determined the existence of the defect or noncompliance. See 49 CFR 556.4(b)(6) and (c).

The agency receives, on average, 30 petitions per year seeking exemptions under part 556 for an inconsequential defect or noncompliance. The agency estimates that it would take, on average, five hours for a manufacturer to compile, organize, and submit the information needed to support each petition.

Estimated Annual Burden: 150 hours.

Number of Respondents: 30.

Comments are invited on: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology.

Jeffrey M. Giuseppe,
Acting Associate Administrator, Enforcement.

[FR Doc. 2017-17997 Filed 8-24-17; 8:45 am]

BILLING CODE 4910-59-P